CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled the Senior Corps Progress Report (PPR) for review and approval in accordance with the Paperwork Reduction Act of 1995, Pub. L. 104-13, (44 U.S.C. Chapter 35). Copies of this ICR, with applicable supporting documentation, may be obtained by calling the Corporation for National and Community Service, Wanda Carney, at (202) 606-6934 or email to wcarney@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: (202) 395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on December 10, 2012. This comment period ended on February 10, 2013. A total of 99 public comments were received from this Notice.

Summary of Comments by Category and CNCS Response

Category 1: Statements of Support for a PPR Update. A total of 26 comments included statements of support for an updated PPR: Nineteen commenters support updating the PPR to align with new performance measures and 7 commenters shared that the PPR is a valuable reporting tool.

Response: CNCS agrees with the need to align the PPR with new performance measures and also the overall value of the PPR.

Category 2: Burden. CNCS received 72 comments citing semi-annual reporting will increase reporting burden, and that CNCS should retain an annual reporting cycle. Nineteen comments stated that a semi-annual PPR would take too much time away from other project management responsibilities. Four of the 19 comments specifically noted that grantee time is needed to shift service activities to new National Performance Measures or to focus on RSVP Competition. Eight of the 19 comments noted that a Senior Corps project director's time and project management abilities are already stretched due to recent budget cuts which have resulted in reduced staff time and reduced travel budgets

Response: CNCS recognizes the time needed to support other Senior Corps project management responsibilities, and agree that requesting a full PPR every six months does not result in benefits that outweigh the additional administrative burden imposed. CNCS proposes the following refinements to semi-annual reporting: Only grantees that have adopted the new standard performance measures will be required to report semi-annually. These grantees comprise 33 percent of the Senior Corps portfolio in FY 2013; 66 percent in FY 2014; and 100 percent in FY 2015. The increase in percentage is due to the phased in approach of the required performance measures. In this way, grantees not yet operating under the performance measures requirements will retain their original annual reporting cycle until the time that they compete for a new grant (RSVP only) or submit a renewal for a new grant (FGP and SCP only).

CNCS will require only demographic and performance measure output data reports on the mid-year PPR, rather than the full PPR. Completing only the sections that address the performance and results will provide the data needed by CNCS to gauge progress, but will abbreviate the mid-year PPR submission.

Category 3: Lack of useful data to justify increase in burden. A total of 26 comments stated that a semi-annual PPR is unnecessary because performance measure data includes an annual target. Thus, a semi-annual report would not yield useful data. Eighteen of these comments stated that information reported on a semi-annual PPR would unfairly be used as a measure towards progress on achieving final targets. Two of the comments stated that commenters believed CNCS would not use the data reported.

Response: CNCS recognizes that performance measure targets are a goal to be achieved at the end of a 12-month period. However, information reported on a semi-annual PPR provides information used to determine whether the project is on track to achieve the target on time. The data will be used to determine adequate progress during the project period to assess whether an administrative renewal or competition is the appropriate next step for RSVP projects. The data submitted at the mid-point each year will also allow CNCS to access data needed for key documents, such as the Congressional Budget Submission.

Category 4: Burden on volunteer stations, which are the organizations where the volunteers are placed. A total of 15 comments expressed concern about an additional reporting burden on volunteer stations. One comment stated that the project would be at risk of losing volunteer stations due to an increased reporting burden. Two comments cited technology issues at the volunteer stations may present challenges to gathering reporting information from volunteer stations.

Response: CNCS recognizes the potential increase in volunteer station burden due to additional reporting. Rather than asking for a full PPR to be submitted every six months, CNCS will compromise with a requirement for only demographic and output information to be reported on the six-month PPR.

Category 5: Time Estimate. A total of nine comments stated that the estimated time to complete the PPR is too low.

Response: The time required to complete the PPR is limited to the time needed to enter the PPR information into the PPR module in eGrants and does not include the time invested in project management, performance measures monitoring, or gathering the performance measures and PPR data. However, we concur that the full burden should be reviewed, particularly since respondents will use new eGrants system functionality under this PPR version.

Category 6: CNCS Staff Oversight. A total of two comments stated that CNCS staff would not have time to react to and provide feedback on a semi-annual report.

Response: Prior to the recent move to annual PPRs, CNCS staff provided feedback on semi-annual and annual PPRs. Time to provide feedback has not been an issue for CNCS staff in the past.

Category 7: Suggestion for Performance Metric for Achievement. One comment suggested that grantees self-report whether they are on target to achieve the end of year goal, rather than reporting quantifiable data against the performance measures.

Response: Data that cannot be supported with quantifiable information would not provide enough useful information for CNCS.

Category 8: Other. One commenter stated that Senior Corps is a waste of government money and recommends closing out Senior Corps grants and programs.

Response: This comment is outside the scope of the information request.

Description: CNCS is seeking approval of the Senior Corps Progress Report (PPR), which is used by grantees of the Senior Corps' programs (RSVP, Foster Grandparent and Senior Companion Programs) address and fulfill legislated program purposes; meet OMB Progress Report Requirements; meet agency program management and grant requirements; track and measure progress to benefit the local project and its contributions to senior volunteers and the community; and to report progress toward work plan objectives agreed upon in the granting of the award. The PPR also includes a Progress Report Supplement (PRS), which is administered annually to all Senior Corps grantees. This PRS survey collects data from all grantees that is then aggregated to develop snapshots about Senior Corps volunteers, such as demographic characteristics, reasons for separating from the program, and service hours per week.

Type of Review: Renewal.

Agency: Corporation for National and Community Service.

Title: Senior Corps Progress Report (PPR).

OMB Number: 3045-033.

Agency Number: None.

Affected Public: Senior Corps grantees.

Total Respondents: 1,250.

Frequency: Semi-annual for PPR. Annual for PRS.

Average Time per Response: 14 hours.

Estimated Total Burden Hours: 17,500.

Total Burden Cost (capital/startup): None.

Total Burden Cost (operating/maintenance): None.

Dated; June 12, 2013.
Erwin Tan,
Director, Senior Corps.

[FR Doc. 2013-14461 Filed 6-17-13; 8:45 am]

BILLING CODE 6050-28-P